POSTAL SERVICE

39 CFR Part 111

Firm Pieces in Presorted Bound Printed Matter Mailings

AGENCY: Postal Service.

ACTION: Clarification.

SUMMARY: This document clarifies and responds to comments on the mail preparation standards for Presorted Bound Printed Matter (BPM) mailings that include individually addressed firm pieces. The term “firm piece” is generally used to describe a mailpiece that consists of more than one component (all destined for the same delivery address) composited into a single addressed mailpiece.

FOR FURTHER INFORMATION CONTACT: Tom DeVaughan, 703-292-3640; or Marc McCrery, 202-268-2704.

SUPPLEMENTARY INFORMATION: On April 24, 2002, the Postal Service published in the Federal Register (67 FR 20074) a request for comment on the Domestic Mail Manual (DMM) eligibility and mail preparation standards for firm pieces in Presorted BPM mailings. The notice sought comment on the application of the existing rules; it did not propose any change to the DMM.

The Postal Service received comments from four printers, two mail owners, and two presort software vendors. Several of the comments received were outside the scope of the notice. Four commenters included a statement that they were opposed to the change or “proposal.” However, the notice was clarifying and not proposing to change any DMM eligibility or mail preparation standards.

Two commenters stated that they are in agreement with the current standards and that no changes are necessary, as long as all BPM mailers are required to meet the standards for both mail preparation (based on the characteristics of the mailpiece) and destination entry rate eligibility (based on the entry of the mailpiece).

BPM irregular parcels weighing less than 10 pounds have essentially the same preparation standards as flats: they must first be prepared into presort destination packages (e.g., secure multiple addressed pieces destined for the same 3-digit ZIP Code together in a 3-digit package), as appropriate, prior to sacking and palletization. Several commenters insisted that the Postal Service granted exceptions to this preparation in the past.

BPM standards were completely rewritten with industry participation for R2001-1 implementation on January 7, 2001. The USPS pointed to how the new standards would reduce postal processing costs, help mitigate future postage rate increases, and make it easier to determine when BPM mailings are not prepared properly for the rates claimed. For BPM to be eligible for Presorted rates, pieces must be presorted into destination packages to the finest extent possible, with each presort destination package containing a minimum of two addressed pieces. BPM mailings not prepared in accordance with these standards are not eligible for Presorted rates and, thus, are also not eligible for destination entry rates (like Standard Mail preparation). The exception is that BPM irregular parcels placed directly in 5-digit scheme or 5-digit sacks or on 5-digit scheme or 5-digit pallets are not required to be first be secured together in 5-digit presort destination packages. Machinable parcels placed on 5-digit scheme or 5-digit pallets and BMC pallets also do not require presort (destination) package preparation.

One commenter stated that the Postal Service could use small parcel and bundle sorters (SPBSs) to sort single individually addressed firm pieces to 5-digit destinations. This scenario is not possible in all cases because not all SCFs have SPBSs. The most efficient way for the Postal Service to process parcels to the 5-digit level is to sort machinable parcels on bulk mail center (BMC) parcel sorting machines (PSMs). Irregular parcels, such as BPM firm pieces, that do not meet the machinable criteria for processing on PSMs are more costly to sort as individual pieces and are therefore required to be placed in presort destination packages to minimize piece distribution costs. Parcels placed on 5-digit scheme, 5-digit, and optional 5-digit metro pallets do not have to meet machinability criteria for PSMs because they would by-pass that operation and avoid the piece distribution costs.

One commenter stated that pieces of Standard Mail flats may, at the mailer's option, be grouped together to create a BPM irregular parcel, thus allowing them to be mailed at BPM rates, which are less than if each component were mailed individually at Standard Mail rates. The Postal Service agrees with this option, provided the mailer then secures these BPM pieces together in accordance with the required mail preparation standards for the BPM rates claimed (i.e., presort destination packages are required).

A majority of BPM firm piece preparation results in the creation of irregular parcels weighing less than 10 pounds each (as described in DMM M722.1.1). Although BPM irregular parcels are flat in shape, they generally exceed the flat sorting machine maximums for flat-size piece processing in thickness (3/4 inch) as defined in DMM C050. Processing of individual machinable BPM parcels is performed at BMCs and, in limited situations, at auxiliary service facilities (ASFs), but not in sectional center facilities (SCFs). Four commenters stated that because the Postal Service permits Periodicals mailers to prepare firm pieces and to use a “firm” optional endorsement line to identify them, it should also be permitted in BPM mailings. Unlike the rates for Periodicals mail, BPM presorted rates are not structured to accommodate firm piece preparation and the costs associated with processing single addressed pieces (except for machinable parcels) claimed at a Presorted rate. Periodicals rates place greater emphasis on the pound rate portions (advertising and nonadvertising), whereas BPM rates place greater emphasis on the addressed piece rate portion.

Use of a firm optional endorsement line (OEL) is practical only with Periodicals mailings, since those firm pieces are not permitted to be physically secured with other pieces within a presort destination package. Including firm pieces within presort destination packages of BPM when mailers rely solely on OELs for labeling of presort destination packages does not accommodate two possible destinations within a presort destination package (e.g., firm and 5-digit). If the firm piece were the top piece in a presort destination package, it is likely that the entire package would be delivered to the address on that firm piece. One commenter stated that requiring the use of facing slips in lieu of OELs is counterproductive. The Postal Service simply suggested facing slips as means of overcoming the above scenario.

One commenter asked if the increase in maximum weight for a BPM piece was considered. The increase in weight limits for BPM mailpieces occurred October 5, 1997, more than three years before R2000-1 implementation on January 7, 2001.

Three commenters stated that they run a “pre-pass” to determine the number of addresses receiving multiple components. Upon completion, the mailing job is then split into two mailings: one consisting of the multiple component pieces prepared as a machinable parcel mailing, and a second (separate) mailing of single component pieces prepared and mailed as flats or irregular parcels. As confirmed by one presort software vendor, firm piece preparation (if prepared as flats or irregular parcels requiring further packaging) creates a problem since it would be necessary to put a package (firm piece) into another package (presort destination), followed by the sacking or palletization. Additionally, the commenter stated that this preparation contributes to presort documentation and Mail.dat/PostalOne issues. These concerns have been brought to the attention of Business Mail Acceptance and Business Customer Support Systems.

One commenter said that the Postal Service has allowed single firm pieces in BPM mailings since January 7, 2001 (either through exception or unknowingly), and, therefore, the Postal Service should continue to do so. For the reasons stated here and in the April 24, 2002, Federal Register notice, the Postal Service cannot support this request.

Based on the comments, many mailers seem to believe that any BPM on SCF or finer pallets is eligible for DSCF entry. To clarify, BPM flats and BPM irregular parcels weighing less than 10 pounds are eligible for DSCF entry only as follows:

Pieces in 5-digit and 3-digit presort destination packages placed in 5-digit, 3-digit, and optional SCF sacks (DMM M722.2). Presort destination packages placed in 5-digit, 3-digit, and optional SCF sacks, then placed onto 5-digit, optional 3-digit, SCF, and ASF pallets (DMM M045.3.3). Pieces in 5-digit and 3-digit presort destination packages only placed directly onto 5-digit scheme, 5-digit, optional 5-digit metro, optional 3-digit, SCF, and ASF pallets (DMM M045.3.3). Mail on ASF pallets (DMM L602) outside of the plant's SCF service area (DMM L005) is eligible for DBMC rates.

Any further consideration of allowing firm piece preparation in Presorted BPM mailings of flats and irregular parcels can be given due consideration only as part of a future rate case.

Authority: 5 U.S.C. 552(a); 39 U.S.C. 101, 401, 403, 404, 414, 3001-3011, 3201-3219, 3403-3406, 3621, 3626, 5001.

Stanley F. Mires,
Chief Counsel, Legislative.

[FR Doc. 02-20665 Filed 8-14-02; 8:45 am]

BILLING CODE 7710-12-P